DEPARTMENT OF THE INTERIOR

Bureau of Land Management

[LLNMP02000 L16100000.DP0000 18XL1109AF]

Notice of Availability of the Draft Resource Management Plan and Draft Environmental Impact Statement for the BLM Carlsbad Field Office, New Mexico

AGENCY: Bureau of Land Management, Interior.

ACTION: Notice of availability.

SUMMARY: In accordance with the National Environmental Policy Act of 1969 (NEPA), as amended, and the Federal Land Policy and Management Act of 1976, as amended, the Bureau of Land Management (BLM) has prepared a Draft Resource Management Plan (RMP) and Draft Environmental Impact Statement (EIS) for the Carlsbad Field Office, and by this Notice is announcing the opening of the comment period.

DATES: To ensure that comments are considered, the BLM must receive written comments on the Draft RMP/Draft EIS within 90 days following the date the Environmental Protection Agency publishes its Notice of Availability of the Draft RMP/Draft EIS in the Federal Register. The BLM will announce future meetings or hearings, and any other public participation activities, at least 15 days in advance through public notices, media releases, and/or mailings.

ADDRESSES: You may submit comments related to the Draft RMP/Draft EIS for the Carlsbad Field Office by any of the following methods:

• Project Website (ePlanning): https://www.blm.gov/programs/planning-and-nepa/plans-in-development/new-mexico/carlsbad-rmp.

• Email: blm_nm_cfo_rmp@blm.gov.

• Fax: 575-234-5927, Attn.: Carlsbad RMP Team Lead.

• Mail: 620 East Greene Street, Carlsbad, NM 88220, Attn.: Carlsbad RMP Team Lead.

Copies of the Carlsbad Draft RMP/Draft EIS are available in the Carlsbad Field Office at the above address; the New Mexico State Office at 301 Dinosaur Trail, Santa Fe, NM 87508; the Pecos District Office at 2909 West Second Street, Roswell, NM 88201; and the Hobbs Field Station at 414 West Taylor, Hobbs, NM 88240. An electronic copy is available for download at the project website provided above.

FOR FURTHER INFORMATION CONTACT: For further information contact Hector Gonzalez, RMP Team Lead; telephone 575-234-5968; address 620 East Greene Street, Carlsbad, NM 88220; email hrgonzalez@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: In the Carlsbad Draft RMP/Draft EIS, the BLM analyzes the environmental consequences of five alternatives under consideration for managing approximately 2.1 million acres of surface estate and close to 3.0 million acres of subsurface mineral estate. These lands, administered by the BLM Carlsbad Field Office, are located within Eddy, Lea, and a portion of Chaves counties in southeast New Mexico. The Carlsbad planning area includes the Carlsbad Caverns National Park, Brantley Lake State Park, Living Desert Zoo and Gardens State Park, and part of the Lincoln National Forest.

This land use plan would replace the current Carlsbad RMP, which the BLM approved in 1988 and amended in 1997 and 2008. A revision to the 1988 RMP is necessary because a number of changes have occurred in the Carlsbad planning area since its publication. New resource issues have emerged, new resource data are available for consideration, and new policies, guidelines, and laws have been established. The changes are in part due to continuing fluid and solid mineral extraction (oil, gas, and potash) in the area and the use of new technologies to extract those resources. Concurrent extraction of both fluid and solid mineral reserves presents a management challenge not fully addressed in the 1988 RMP and its Amendments.

There is also a need to update the RMP to address several interrelated issues and management concerns, including renewable energy, recreation, special status species, visual resources, and wildlife habitat. The BLM also considers special designations, such as Areas of Critical Environmental Concern (ACEC) to address concerns in sensitive resource areas.

There are opportunities to update recreation decisions in the plan revision to respond to community interests and needs, as well as complement surrounding tourism destinations. Most of the lands administered by the Carlsbad Field Office are currently designated as open to cross-country motorized vehicle use. This designation will be re-examined to consider a better balance of resource conservation with travel management needs. The BLM has updated visual resource inventories and will update visual resource management (VRM) designations to address renewable energy demand, as well as other potential uses in the planning area. The BLM will consider future renewable energy sites and interconnecting rights-of-way (ROW) in the RMP.

The five alternatives analyzed in detail in the Draft RMP/EIS are as follows:

• No Action Alternative: A continuation of existing management under the current 1988 Carlsbad RMP, as amended;

• Alternative A: Focuses on watershed management and restoration-related planning issues;

• Alternative B: Focuses on resource use conflicts related to leasable mineral development, recreation, and watershed management through geographic separation of uses;

• Alternative C (the BLM's Preferred Alternative): Focuses on multiple use by managing resource conflict, rather than geographic separation of uses, focused use, or preservation areas; and

• Alternative D: Focuses on leasable mineral development, lands and realty, and recreation issues.

Among the special designations under consideration within the range of alternatives, the BLM proposes and evaluates ACECs to protect certain resource values, preserving access to mineral resources and other uses where appropriate. Pertinent information regarding these ACECs, including proposed designation acreages, resource use limitations if designated, and their respective alternatives are summarized below. Each alternative considers a combination of resource use limitations for each ACEC. Five ACECs exist in the No Action Alternative; nine are proposed for designation in Alternative A; 15 are proposed for designation in Alternative B; seven are proposed for designation in Alternative C; and five are proposed for designation in Alternative D. A more detailed summary of the proposed ACECs, by alternative, is available at the project website provided above. Pursuant to 43 CFR 1610.7-2(b), the BLM is required to specify all proposed ACEC resource use limitations, which would occur if formally designated. The alternative where each ACEC is considered, as well as the largest size and most restrictive limitations under consideration for each potential ACEC within the range of alternatives are as follows:

• Blue Springs Riparian Habitat ACEC: The 1988 RMP, as amended, designated this 160-acre ACEC to protect the grasslands immediately adjacent to Blue Springs, which provides habitat for the only known remaining population of the Pecos Gambusia fish in New Mexico. This ACEC is open to fluid mineral leasing subject to major constraints (such as no surface occupancy stipulations). Under each action alternative, the BLM would remove the ACEC designation, but would continue to manage the area as open to fluid mineral leasing, subject to major constraints. Additional proposed resource use limitations include closing the area to salable mineral development, recommending the area for withdrawal from locatable mineral entry, closing the area to geothermal development, excluding the area from wind and solar development and ROWs, and designating off-highway vehicle (OHV) limited areas.

• Lonesome Ridge ACEC: The 1988 RMP, as amended, designated this 2,990-acre ACEC to protect values associated with scenery, fish and wildlife resources, and natural system processes. This ACEC is closed to fluid mineral leasing. Under each action alternative, this ACEC designation would be carried forward, and the area would continue to be closed to fluid mineral leasing. Additional proposed management prescriptions include: Closing areas to salable mineral development; recommending the area for withdrawal from locatable mineral entry; closing the area to OHV use; managing the entire ACEC as VRM Class I under Alternatives A, C, and D, while managing most of the ACEC as VRM Class I and a small portion of the ACEC as VRM Class II under Alternative B; excluding the area from ROW authorization; and making the area available for grazing.

• Pecos River/Canyons Complex ACEC: The 1988 RMP, as amended, designated this 5,190-acre ACEC to protect scenic and natural system values. This ACEC is open to fluid mineral leasing subject to major constraints. For Alternatives A, B, and C, 4,115 acres would continue to be managed as an ACEC to protect scenic and natural system values with management prescriptions that would include: Opening the area to mineral leasing with major constraints; closing the area to salable mineral development; recommending the area for withdrawal from locatable mineral entry; not allowing surface occupancy in 100-year floodplains; designated OHV limited areas; excluding the area from wind and solar development, and closing the area to geothermal development; making the majority of the ACEC available for grazing; excluding the area from ROW authorization; and managing the ACEC as VRM Class II (Alternatives A and B), with some portions managed as VRM Class III under Alternative C. Alternative D would not designate 4,115 acres as an ACEC. Under Alternative D, this area would be open to fluid mineral leasing, subject to standard terms except for a small portion that would be open subject to major constraints due to visual resource concerns along the Pecos River Corridor. Additional management prescriptions would include: Opening most of the area to salable mineral development, except a small portion that would be closed; recommending a small portion of the area for withdrawal from locatable mineral entry; managing most of the area as open to geothermal, solar, and wind energy development, but excluding solar and wind and closing geothermal energy development in a portion of the area; managing the area as either VRM Class II or III; designating OHV limited areas; making the entire area available for grazing; and excluding some areas from ROW authorization.

• Cave Resources ACEC: The 1988 RMP, as amended, identified nineteen caves within nine cave management units totaling approximately 19,000 acres to be managed as a special management area. By cave management unit, the current fluid mineral leasing allocations vary between closed and open subject to major constraints. Under all action alternatives, the BLM proposes to designate these nine units as one collective Cave Resources ACEC to protect historic, cultural, wildlife resources, natural system or process, and natural hazard values. For all action alternatives, fluid mineral leasing allocations would vary (by cave management unit) between closed and open to leasing subject to major constraints. Additional management prescriptions would include: Closing the area to salable mineral development under Alternatives A, B and C; opening a small portion of the area to salable mineral development subject to special terms and conditions under Alternative D; recommending for withdrawal from locatable mineral entry under Alternatives A, B and C; opening a small portion of the area to locatable mineral entry under Alternative D; excluding the area from wind and solar development; closing the area to geothermal development; designating OHV limited areas in most of the ACEC and closing a small portion of the area; managing the area as either VRM Class I, II, or III; making grazing unavailable in a portion of the ACEC under Alternatives A and B; making the entire ACEC available for grazing under Alternatives C and D; excluding the ACEC from ROW authorization under Alternatives A, B and C; excluding most of the ACEC from ROW authorization, and avoiding a small portion under Alternative D.

• Birds of Prey Grasslands ACEC: Currently, there is no ACEC designation for the area, nor is the area identified as a special management area. Most of this area is open to fluid mineral leasing either subject to moderate constraints (e.g., controlled surface use) or standard terms and conditions. A small portion of the area is closed to fluid mineral leasing. Alternatives A and B would designate 349,355 acres as an ACEC to protect wildlife resources. Under Alternatives A and B, this ACEC would be closed to fluid mineral leasing. Additional proposed management prescriptions would include: Opening most of the area to salable mineral development with special terms and conditions, and closing a portion of the ACEC to salable mineral development; recommending a small portion of the ACEC for withdrawal from locatable mineral entry; closing areas to geothermal energy development and excluding areas from solar and wind energy development; managing the area as either VRM Class II, III, or IV; making some areas available for grazing under Alternative B, or making the entire area unavailable to grazing under Alternative A; and excluding the ACEC from ROW authorization.

Alternatives C and D would not designate 349,355 acres as an ACEC. Under Alternatives C and D, the area would be open to fluid mineral leasing either subject to moderate constraints (e.g., controlled surface use) or standard terms and conditions. Additional proposed management prescriptions would include: Opening most areas to salable mineral development with some portions open subject to special terms and conditions; opening the area to locatable mineral entry; excluding or closing most of the area for renewable energy development; managing some areas as variance areas for solar energy development, while excluding solar energy development from some areas; designating areas as either open to, avoidance of, or excluded from wind energy development; managing the area as either VRM Class III or IV; designating OHV limited areas; making most of the area available to grazing; and designating the area as either open to, or avoidance of ROW authorization.

• Boot Hill District ACEC: Currently, approximately 265 acres are identified as the Poco Site Cultural Resource Management Area. This area is open to fluid mineral leasing, subject to major constraints. Alternative B would designate 1,065 acres as an ACEC to protect cultural resource values and natural systems or processes, whereas, Alternatives A, C, and D would not designate the area as an ACEC. Management prescriptions for all alternatives would include: Opening the area to fluid mineral leasing with major constraints under Alternatives A, C, and D, while closing the entire area to fluid mineral leasing under Alternative B; closing the area to salable mineral development; recommending withdrawal from locatable mineral entry; managing the area as VRM Class IV; designating OHV limited areas; restricting fire suppression; closing the area to geothermal development, and excluding the area from solar and wind energy development; making the entire area available for grazing; and excluding the area from ROW authorization.

• Carlsbad Chihuahuan Desert Rivers ACEC: Within the area nominated for the Carlsbad Chihuahuan Desert Rivers ACEC, there are two existing designations: The Chosa Draw ACEC (2,820 acres) and the Yeso Hills Research Natural Area (557 acres). Additionally, portions of the nominated area are identified as special management areas in the 1988 RMP, as amended. The fluid mineral leasing allocations vary between open with standard terms and conditions, open with major constraints, and closed depending on cave/karst, riparian, and other resource values present. Alternative A would designate approximately 108,470 acres as an ACEC to protect values associated with cultural, wildlife, scenic, and historic resources, as well as natural hazards and natural systems or processes. Under Alternative A, the fluid mineral leasing allocations vary between open with standard terms and conditions, open with major constraints, and closed, depending on cave/karst, riparian, and other resource values present. Relative to the No Action Alternative, Alternative A would manage a larger portion of the area as closed. Additional management prescriptions would include: Opening the area to salable mineral development and closing portions of the area to salable mineral development; recommending part of the area for withdrawal from locatable mineral entry; designating some areas as open for wind, geothermal, and solar energy development; designating some areas as excluded from solar and wind energy development, and closed to geothermal energy development; managing the area as either VRM Class II, III, or IV; making the area unavailable for grazing; designating OHV limited areas and closing a small portion; and excluding some areas from ROW authorization. Alternatives B, C, and D would not designate the area as an ACEC. Under Alternatives B, C, and D, the majority of the acreage would be open to fluid mineral leasing subject to standard terms and conditions; the remaining acreage varies between open to fluid mineral leasing subject to moderate constraints, open to fluid mineral leasing subject to major constraints, and closed to fluid mineral leasing. Additional management prescriptions would include: Opening most of the areas to salable mineral development with some areas open subject to special terms and conditions; closing part of the area to salable mineral development; recommending withdrawal of a portion of the area from locatable mineral entry; opening or closing portions of the area to geothermal energy development; opening, avoiding, or excluding parts of the area from wind energy development; excluding parts of the area from solar energy development, or allowing solar development under variances; managing as either VRM Class II, III, or IV; designating OHV limited areas and closing other areas to OHV use; making some areas available for grazing and making other areas unavailable for grazing; and designating areas as either open to, avoidance of, or excluded from ROW authorization.

• Desert Heronries ACEC: Currently, there is no ACEC designation for the area; however, the 1988 RMP, as amended, identified approximately 27,000 acres as a special management area. This area is open to fluid mineral leasing, subject to moderate constraints.

Alternative B would designate approximately 48,708 acres as an ACEC to protect fish or wildlife resource and habitat values. Under Alternative B, the majority of the acreage would be open to fluid mineral leasing subject to standard terms and conditions; the remaining acreage would be open to fluid mineral leasing subject to moderate constraints or major constraints. Additional proposed management prescriptions would include: Opening most of the area to salable mineral development and a small portion open subject to special terms and conditions; closing other areas to salable mineral development; recommending parts of the ACEC for withdrawal from locatable mineral entry; designating some parts of the ACEC as open for geothermal and wind energy development; excluding some parts of the ACEC from solar and wind energy development; designating other portions as variance areas for solar energy development; closing parts of the ACEC to geothermal energy development; avoiding wind energy development in parts of the ACEC; managing the area as either VRM Class II or IV; designating OHV limited areas and closing a small portion of the area to OHV use; making the entire area unavailable for grazing; and designating portions of the ACEC as either open to, avoidance of, or excluded from ROW authorization. Alternatives A, C, and D would not designate 48,708 acres as an ACEC. Specific management prescriptions would include: Opening the area to fluid mineral leasing with either standard terms, moderate constraints, or major constraints, and closing some areas to mineral leasing under Alternative A; opening most of the area to salable mineral development, while opening some areas subject to special terms and conditions and closing other areas; recommending areas for withdrawal from locatable mineral entry; designating some areas as open to geothermal and wind energy development; excluding some areas from solar energy development; excluding or avoiding some areas from wind energy development; managing some portions as variance areas for solar energy development; closing some areas to geothermal energy development; managing the area as either VRM Class III or IV; designating OHV limited areas and closing a small portion of the area to OHV use; making most of the area available for grazing while making some areas unavailable for grazing; and designating areas as either open to, avoidance of, or excluded from, ROW authorization.

• Gypsum Soils ACEC: Within the area nominated for the Gypsum Soils ACEC, there are two existing designations: The Chosa Draw ACEC (2,820 acres) and the Yeso Hills Research Natural Area (557 acres). Additionally, portions of the nominated area are identified as special management areas in the 1988 RMP, as amended. Currently, the nominated area is primarily open to fluid mineral leasing subject to standard terms and conditions; however, portions of the nominated area are open to leasing with major constraints, or are closed to fluid mineral leasing due to cave/karst, riparian and other resource values present. Alternatives B and C would designate approximately 65,555 acres as an ACEC to protect values associated with cultural, fish and wildlife, historic, and scenic resources, as well as natural system or processes and natural hazards. Under Alternatives B and C, the ACEC would primarily be open to fluid mineral leasing, subject to standard terms and conditions; however, portions of these alternatives would be open to leasing with major or moderate constraints or would be closed to fluid mineral leasing. Alternatives A and D would not designate the area as an ACEC. Under Alternatives A and D, the ACEC would primarily be open to fluid mineral leasing subject to standard terms and conditions; however, portions of these alternatives would open the area to fluid mineral leasing subject to moderate or major constraints or would be closed to fluid mineral leasing. Additional proposed management prescriptions would include: Opening some areas to salable mineral development with or without special terms and conditions; closing some areas to salable mineral development; recommending parts of the area for withdrawal from locatable mineral entry; designating some areas as open for geothermal, solar, and wind energy development; designating other areas as excluded from solar and wind energy development; managing portions as variance areas for solar energy development and avoidance areas for wind energy development; closing some areas to geothermal energy development; managing the area as either VRM Class II, III, or IV; designating OHV limited areas and closing a small portion of the area to OHV use; making some areas available for grazing while making some areas unavailable for grazing; and designating areas as either open to or excluded from ROW authorization under Alternative A, while designating areas as either open to, avoidance of, or excluded from ROW authorization under Alternatives B, C, and D.

• Laguna Plata ACEC: Currently, there is no ACEC designation for the area; however, the 1988 RMP, as amended, identified approximately 3,360 acres as a special management area. Currently, this area is open to fluid mineral leasing subject to major constraints. Alternatives A and B would designate 4,496 acres as an ACEC to protect cultural, fish and wildlife resources. Under Alternatives A and B, the ACEC would primarily be open to fluid mineral leasing subject to major constraints; however, a portion of the ACEC would be closed to fluid mineral leasing, and a portion of the ACEC would be open to fluid mineral leasing subject to moderate constraints under Alternative A. Alternatives C and D would not designate the area as an ACEC. Under Alternatives C and D, the ACEC would be open to fluid mineral leasing subject to major constraints. Additional proposed management prescriptions to all alternatives would include: Closing the area to salable mineral development; recommending the area for withdrawal from locatable mineral entry; closing the area to geothermal energy development; excluding the area from solar and wind energy development; managing the area as VRM Class III; designating OHV limited areas; making the area available for grazing under Alternatives A, C, and D; making the area unavailable for grazing under Alternative B; and designating the area as excluded from ROW authorization.

• Maroon Cliffs ACEC: Currently, there is no ACEC designation for the area; however, the 1988 RMP, as amended, identified approximately 8,700 acres as a special management area. This area is open to fluid mineral leasing subject to major constraints. Alternative B would designate 8,700 acres as an ACEC to protect cultural resource values. Alternatives A, C, and D would not designate the area as an ACEC. Under all alternatives, including the No Action Alternative, this ACEC would be open to fluid mineral leasing subject to major constraints. Additional proposed management prescriptions would include: Closing the area to salable mineral development; recommending the area for withdrawal from locatable mineral entry; excluding the area from solar and wind energy development; closing the area to geothermal energy development; designating OHV limited areas; managing the area as VRM Class III for Alternatives A, C, and D; managing the area as VRM Class II for Alternative B; making most of the area available for grazing under Alternative A, and closing a small portion to grazing; making the entire area available for grazing under Alternatives C and D; making the entire area unavailable for grazing under Alternative B; and excluding the area from ROW authorization.

• Pecos Bluntnose Shiner Habitat ACEC: Currently, there is no ACEC designation for the area; however, the 1988 RMP, as amended, identified approximately 200 acres as a special management area. This area is open to fluid mineral leasing subject to major constraints. Alternatives A, B, C, and D would designate 200 acres as an ACEC to protect fish and wildlife resource values. Under Alternatives A and B, this area would be closed to fluid mineral leasing. Under Alternatives C and D, this area would be open to fluid mineral leasing subject to major constraints. Additional proposed management prescriptions include: Closing the area to salable mineral development; recommending withdrawal from locatable mineral entry; closing or excluding the area from all renewable energy development in all alternatives; managing the area as VRM Class II; designating OHV limited areas; making the area unavailable for grazing; and designating the area as excluded from ROW authorization.

• Pope's Well ACEC: Currently, there is no ACEC designation for the area; however, the 1988 RMP, as amended, identified approximately 80 acres as a special management area. This area is open to fluid mineral leasing, subject to major constraints. Alternative B would designate approximately 80 acres as an ACEC to protect historic resource values. Alternatives A, C, and D would not designate the area as an ACEC. Under all alternatives, including the No Action Alternative, this area would be open to fluid mineral leasing, subject to major constraints. Additional proposed management prescriptions would include: Closing the area to salable mineral development; recommending the area for withdrawal from locatable mineral entry; excluding the area from solar and wind energy development; closing the area to geothermal energy development; closing the area to OHV use; managing the area as VRM Class IV; making the area unavailable for grazing; and designating the area as excluded from ROW authorization.

• Salt Playas ACEC: Currently, there is no ACEC designation for the area. Within the area, there are two special management areas identified by the 1988 RMP, as amended. The majority of this area is open to fluid mineral leasing, subject to standard terms and conditions or moderate constraints; portions of the area are open to leasing, subject to major constraints or are closed to fluid mineral leasing. Alternative B would designate 49,772 acres as an ACEC to protect cultural, fish and wildlife resource values. Alternatives A, C, and D would not designate the area as an ACEC. Under Alternative A, the majority of this area would be open to fluid mineral leasing, subject to standard terms and conditions or moderate constraints; portions of this area would be open to leasing, subject to major constraints or would be closed to fluid mineral leasing. Under Alternative B, the majority of the area would be open to fluid mineral leasing, subject to major constraints; a portion of the area would be closed to fluid mineral leasing. Under Alternatives C and D, this area would be open to fluid mineral leasing, subject to standard terms and conditions, moderate constraints, and major constraints. Additional proposed management prescriptions would include: Opening some areas to salable mineral development with or without special terms and conditions, and closing some areas under Alternatives A, C, and D; closing most of the area to salable mineral development under Alternative B; recommending some areas for withdrawal from locatable mineral entry under Alternatives A, C, and D; recommending the entire area for withdrawal under Alternative B; designating some areas as open for geothermal, solar, and wind energy development under Alternatives A, C, and D; designating other areas as excluded from solar and wind energy development; designating portions as variance areas for solar energy development and avoidance areas for wind energy development; designating other areas as closed to geothermal energy development; closing or excluding the entire area to renewable energy under Alternative B; managing the area as either VRM Class III or IV under Alternatives A, C, and D; managing the area as either VRM Class II, III, or IV under Alternative B; designating OHV limited areas; making the area available for grazing in Alternatives A, C, and D; making a portion of the area unavailable for grazing in Alternative B; designating areas as either open to, avoidance of, or excluded from, ROW authorization under Alternatives A, C, and D; and designating the entire area as excluded to ROW authorization underAlternative B.

• Serpentine Bends ACEC: The area nominated for the Serpentine Bends ACEC contains a portion of the existing Dark Canyon ACEC, as identified by the 1988 RMP, as amended, and an existing cave withdrawal area that encompasses the entirety of this nominated ACEC. Under all alternatives, including the No Action Alternative, this area is closed to fluid mineral leasing due to the withdrawal. Alternatives A, B, C, and D would designate 5,019 acres as an ACEC to protect values associated with historic, scenic, fish or wildlife resources, and natural systems or processes. Additional proposed management prescriptions would include: Closing the area to salable mineral development; recommending the area for withdrawal from locatable mineral entry; excluding the area from solar and wind energy development; closing the area to geothermal energy development; managing the area as VRM Class I for Alternative B; managing some areas as VRM Class I and other areas as VRM Class II for Alternatives A, C, and D; designating OHV limited areas; closing some areas to travel; making the area available for grazing; and excluding the area from ROW authorization.

• Seven Rivers Hills ACEC: Currently, there is no ACEC designation for the area; however, the 1988 RMP, as amended, identified approximately 540 acres as a special management area. This area is open to fluid mineral leasing, subject to major constraints. Alternatives B, C, and D would designate 1,027 acres as an ACEC to protect values associated with scenic, fish or wildlife resources, natural systems or processes, and natural hazards. Alternative A would not designate the area as an ACEC. Under Alternative A, a portion of this area would be open to fluid mineral leasing, subject to standard terms and conditions and subject to major constraints, and a portion would be closed to fluid mineral leasing. Under Alternatives B, C, and D, this area would be open to fluid mineral leasing, subject to major constraints. Under Alternative A, additional proposed management prescriptions would include: Opening and closing some areas to salable mineral development; opening some areas to locatable mineral entry; recommending some areas for withdrawal from locatable mineral entry; designating some areas as open for geothermal, solar, and wind energy development; designating other areas as excluded from solar and wind energy development; designating some areas as variance zones for solar energy development; closing some areas to geothermal energy development; designating OHV limited areas; managing the area as either VRM Class II, III, or IV; making the area available for grazing; and designating the area as open to or excluded from ROW authorization. Under Alternatives B, C, and D, additional proposed management prescriptions would include: Closing the area to salable mineral development; recommending the entire area for withdrawal from locatable mineral entry; closing the area to geothermal energy development; excluding the area from solar and wind energy development; designating OHV limited areas; and excluding the area from ROW authorization.

• Six Shooter ACEC: Currently, there is no ACEC designation for the area. This area is open to fluid mineral leasing, subject to standard terms and conditions. Alternatives A and B would designate 735 acres as an ACEC to protect values associated with scenic, fish or wildlife resources, and natural systems or processes. Under Alternatives A and B, this area would be closed to fluid mineral leasing. Alternatives C and D would not designate the area as an ACEC. Under Alternative C and D, this area would be open to fluid mineral leasing, subject to moderate constraints. Additional proposed management prescriptions would include: Opening areas to salable mineral development with special terms and conditions for Alternatives C and D; closing the area to salable mineral development for Alternatives A and B; recommending the entire area for withdrawal from locatable mineral entry for Alternatives A and B; excluding the area from solar and wind energy development in Alternatives A and B; excluding the area from solar development and avoiding wind energy development in Alternatives C and D; closing the area to geothermal energy development; managing the area as VRM Class II; designating OHV limited areas; making the area available for grazing; designating the area as either excluded from ROW authorization for Alternatives A and B or avoidance of ROW authorization for Alternatives C and D.

The land-use planning process was initiated on June 10, 2010, through a Notice of Intent published in the Federal Register (73 FR 11142), notifying the public of a formal scoping period and soliciting public participation.

Twelve cooperating agencies expressed interest in collaborating with the BLM during the NEPA process. The following agencies signed a formal cooperating agency agreement:

• U.S. Bureau of Reclamation

• U.S. Department of Energy

• Chaves County

• Eddy County

• Carlsbad Irrigation District

• City of Eunice

• City of Jal

• New Mexico Department of Game and Fish

• Lea County Water Users Association

• Carlsbad Soil and Water Conservation District

• National Park Service

• Natural Resource Conservation Service

The BLM held multiple meetings with stakeholders, interest groups, and the public between 2010 and 2012. The BLM held ten scoping meetings (two per locality) in July 2010 in Artesia, Carlsbad, Hope, Jal, and Hobbs, New Mexico. The BLM also held a multiple use interface meeting with the ranching community, oil and gas industry, and potash industry in May 2011. The BLM gave a scoping presentation to the Pecos District Resource Advisory Council in January 2012. The BLM also held public workshops pertaining to VRM, travel, and special designations and met with the Public Lands Advisory Council in February 2012. In addition, the BLM held two economic profile system workshops early in the process with local citizens and community leaders to develop a common understanding of the local economies, and the ways in which land-use planning decisions may affect them.

During the scoping period, the public provided the Carlsbad Field Office with input on relevant issues to consider in the planning process. Additional information was collected during two internal alternatives development workshops and one cooperating agency workshop. Based on the issues, conflicts, and the BLM's goals and objectives, the Carlsbad Field Office Interdisciplinary Team and managers formulated four action alternatives for consideration and analysis in the Draft RMP/Draft EIS. At the close of the public comment period, the BLM will use substantive public comments to revise the Draft RMP/Draft EIS in preparation for its release to the public as the Proposed Resource Management Plan and Final Environmental Impact Statement (Proposed RMP/Final EIS). The BLM will respond to each substantive comment received during the public review and comment period by making appropriate revisions to the document, or explaining why the comment did not warrant a change. Notice of the Availability of the Proposed RMP/Final EIS will be posted in the Federal Register. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Aden L. Seidlitz,
Acting BLM New Mexico State Director.

[FR Doc. 2018-16665 Filed 8-2-18; 8:45 am]

BILLING CODE 4310-FB-P